FEDERAL ELECTION COMMISSION

Sunshine Act Notices

Correction

The correction to notice document 02-20210 appearing at 67 FR 53396, Thursday, August 15, 2002 was incorrect. It is corrected to read as follows:

In notice document 02-20210 appearing on page 51583, in the issue of August 8, 2002, make the following correction:

In the issue of Thursday, August 8, 2002, on page 51583, in the first column, under the meeting of “Thursday, August 15, 2002 at 10 A.M.”, under “STATUS”, “closed” should read “open”.

[FR Doc. C2-20210 Filed 8-16-02; 8:45 am]

BILLING CODE 1505-01-D

DEPARTMENT OF JUSTICE

Drug Enforcement Administration

21 CFR Part 1310

[DEA-222A]

RIN 1117-AA64

Chemical Mixtures Containing gamma-Butyrolactone

Correction

In proposed rule document 02-17903 beginning on page 47493 in the issue of Friday, July 19, 2002, make the following corrections:

1. On page 47493, in the first column, under the SUMMARY section, in the sixteenth line, “21 U.S.C. 804(40))” should read “21 U.S.C. 802(40))”.

2. On the same page, in the second column, in the last paragraph, in the the eighth line, the word “be” should read ”by”.

[FR Doc. C2-17903 Filed 8-16-02; 8:45 am]

BILLING CODE 1505-01-D